DEPARTMENT OF ENERGY

Federal Energy Regulatory Commission

[Project No. 15380-000]

Robertson Power Company, LLC; Notice of Preliminary Permit Application Accepted for Filing and Soliciting Comments, Motions To Intervene, and Competing Applications

On October 31, 2024, Robertson Power Company, LLC, filed an application for a preliminary permit, pursuant to section 4(f) of the Federal Power Act (FPA), proposing to study the feasibility of the Somersworth Mill Hydroelectric Project No. 15380-000 (project), to be located at the Somersworth Mill dam on the Salmon Falls River near the Town of Somersworth in Strafford County, New Hampshire, and Berwick, York County, Maine. The sole purpose of a preliminary permit, if issued, is to grant the permit holder priority to file a license application during the permit term. A preliminary permit does not authorize the permit holder to perform any land-disturbing activities or otherwise enter upon lands or waters owned by others without the owners' express permission.

The proposed project would consist of the following features: (1) an existing 400-foot-long, 16.5-foot-high stone gravity dam (Stone Dam); (2) an existing impoundment having a surface area of 50 acres and a storage capacity of 300 acre-feet at a water surface elevation of 98.7 feet mean sea level; (3) an existing gatehouse with four intake gates and a fill gate leading to a power canal; (4) an existing 1,600-foot-long, 20-foot-wide, and 15-foot-deep granite block and stone constructed power canal; (5) a new 600-foot-long, 10-foot-diameter penstock to be made of concrete or steel; (6) an existing 32-foot-high, 40-foot-wide brick and concrete powerhouse containing two 1,100 kilowatt (kW) turbine-generator units, each with a maximum hydraulic capacity of 460 cubic feet per second; (7) an existing 107-foot-long, 19-foot-high gravity lower stone dam adjacent to the powerhouse (Back Dam); (8) an existing .48/4.16 kilovolt (kV) transformer; (9) a 250-foot-long 4.16 kV transmission line; and (10) appurtenant facilities. The proposed project would have an estimated annual generation of 6.7-gigawatt-hours.

Applicant Contact: Justin D. Ahmann, Robertson Power Company, LLC, 75 Somers Road, P.O. Box 474, Somers, MT 01915; phone: (712) 790-3145; email at Justin@apec-mt.com.

FERC Contact: Justin R. Robbins; phone: (202) 502-8308, or by email at justin.robbins@ferc.gov. Deadline for filing comments, motions to intervene, competing applications (without notices of intent), or notices of intent to file competing applications: on or before 5:00 p.m. Eastern Time on December 15, 2025. Competing applications and notices of intent must meet the requirements of 18 CFR 4.36. The Commission strongly encourages electronic filing. Please file comments, motions to intervene, notices of intent, and competing applications using the Commission's eFiling system at https://ferconline.ferc.gov/eFiling.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15380-000.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

More information about this project, including a copy of the application, can be viewed on the Commission's website (http://www.ferc.gov) using the “eLibrary” link. Enter the docket number excluding the last three digits (P-15380) in the docket number field to access the document. For assistance, contact FERC Online Support.

Dated: October 15, 2025.
Debbie-Anne A. Reese,
Secretary.

[FR Doc. 2025-20785 Filed 11-21-25; 8:45 am]

BILLING CODE 6717-01-P